DEPARTMENT OF THE INTERIOR

Bureau of Land Management

[LLMTB070000-L14300000.ET0000; MTM 73404]

Public Land Order No. 7785; Extension of Public Land Order No. 6912; Montana

AGENCY: Bureau of Land Management, Interior.

ACTION: Public Land Order.

SUMMARY: This order extends the withdrawal created by Public Land Order No. 6912 for an additional 20-year period. This extension is necessary to continue protection of the Mount Haggin Prehistoric Quarry Site in Deer Lodge County, Montana, which would otherwise expire on November 28, 2011.

DATES: Effective Date: November 29, 2011.

FOR FURTHER INFORMATION CONTACT: Sandra Ward, Bureau of Land Management, Montana State Office, 5001 Southgate Drive, Billings, Montana 59101-4669, (406) 896-5052. Persons who use a telecommunications device for the deaf (TDD) may call the Federal Information Relay Service (FIRS) at 1-(800) 877-8339 to reach the Bureau of Land Management contact during normal business hours. The FIRS is available 24 hours a day, 7 days a week, to leave a message or question with the above individual. You will receive a reply during normal business hours.

SUPPLEMENTARY INFORMATION: The purpose for which the withdrawal was first made requires this extension in order to continue the protection of the archaeological, historical, educational, interpretive, and recreational resources of the Mount Haggin Prehistoric Quarry Site. The withdrawal extended by this order will expire on November 28, 2031, unless, as a result of a review conducted prior to the expiration date pursuant to Section 204(f) of the Federal Land Policy and Management Act of 1976, 43 U.S.C. 1714 (f), the Secretary determines that the withdrawal shall be further extended.

Order

By virtue of the authority vested in the Secretary of the Interior by Section 204 of the Federal Land Policy and Management Act of 1976, 43 U.S.C. 1714, it is ordered as follows:

Public Land Order No. 6912 (56 FR 60928 (1991)), which withdrew approximately 490 acres of reserved public minerals from location and entry under the United States mining laws (30 U.S.C. ch. 2), but not the mineral leasing laws, to protect the Mount Haggin Prehistoric Quarry Site, is hereby extended for an additional 20-year period until November 28, 2031.

(Authority: 43 CFR 2310.4.)

Dated: November 21, 2011.
Rhea S. Suh
Assistant Secretary—Policy, Management and Budget.

[FR Doc. 2011-31206 Filed 12-5-11; 8:45 am]

BILLING CODE 4310-$$-P